DEPARTMENT OF COMMERCE

Economic Development Administration

Agency Information Collection Activities; Submission to the Office of Management and Budget (OMB) for Review and Approval; Comment Request; EDA Workforce Data Collection Instrument

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 29, 2022 during a 60-day comment period. This notice allows for an additional 30 days for public comments.

Agency: Economic Development Administration (EDA), Commerce.

Title: EDA Workforce Data Collection Instrument.

OMB Control Number: New information collection.

Form Number(s): None.

Type of Request: Regular submission (new information collection).

Estimated Number of Respondents and Frequency: System Lead Entities/Backbone Organizations: 50 respondents, responding semiannually on their systems and corresponding characteristics, and responding quarterly with data collected from all training providers within the system, including information on participants trained by each training provider. As the Good Jobs Challenge is a new grant program, EDA anticipates that these estimates will be further refined based on data generated during the period of performance of Good Jobs Challenge grants.

Estimated Average Hours per Response: Semiannual data collection on the system and corresponding characteristics: 2 hours. Quarterly data collection on training providers and their training participants: 16.7 hours.

Estimated Burden Hours: 3,533 hours.

Type of metric (all information to be provided by system lead respondents) | Number of responses | Hours per response | Number of responses per year | Total estimated time
System Information | * 50 | 2 hours | 2 (Semiannually) | 200 hours.
Training Provider and Training Participant Information | * 50 | 16.7 hours (4 training providers serving 50 participants each* × 5 minutes per participant) | 4 (Quarterly) | 3,333 hours.
Total |  |  |  | 3,533 hours.
* The number of responses should be considered estimates given the Good Jobs Challenge intended impact. Given investment alignment and program priorities are founded on equity, there could be lower number of stakeholders participating given their efforts to work with individuals most underserved.

Needs and Uses: To effectively administer and monitor its economic development assistance programs, EDA collects certain information from applications for, and recipients of, EDA investment assistance. Under the EDA American Rescue Plan (ARP) Act Good Jobs Challenge, award recipients will be required to submit identified program metrics and information to ensure that EDA workforce investments are evidence-based and data-driven, and accountable to participants and the public. EDA will require information on three key award stakeholders: (1) System Lead Entity/Backbone Organization, defined as the lead entity of a regional workforce training system or sectoral partnership; (2) Training Providers, defined as entities providing relevant training and learning in a regional workforce training system; and (3) Participants, defined as individuals directly trained and placed into jobs via a regional workforce training system. System Lead Entities/Backbone Organizations will also coordinate with relevant employers to understand program performance from the employers' perspective. All process, output, and outcome metrics are associated with the following objectives:

• System Lead Entity/Backbone Organizations: (1) Establish, strengthen, or expand sectoral partnerships or regional workforce training systems; (2) Target underserved populations and areas to participate in the skills training program to reduce systemic inequities and barriers to employment and enhance diversity, equity, and inclusion in industry, including by securing and offering wrap-around services; (3) Support employers in filling demand for good-paying jobs, and (4) Leverage federal and non-federal funds to expand reach and support sustainability.

• Training Providers: Provide skills training to unemployed, underemployed, or incumbent workers with opportunity for increased wages through targeted upskilling to place them into quality jobs and provide employers with skilled workers.

• Participants: Position for employment and wage growth.

EDA will require all ARP Act Good Jobs Challenge award recipients to submit data on the system on a semiannual basis and data on Training Providers and Participants within the system on a quarterly basis.

Affected Public: Recipients of ARP Act Good Jobs Challenge awards, which may include a(n): District Organization; Indian Tribe or a consortium of Indian Tribes; State, county, city, or other political subdivision of a State, including a special purpose unit of a state or local government engaged in economic or infrastructure development activities or a consortium of political subdivisions; Institution of Higher Education or a consortium of institutions of higher education; or Public or private non-profit organization or association, including labor unions, acting in cooperation with officials of a political subdivision of a State. Additionally, training providers and participants in regional workforce training systems will be affected.

Respondent's Obligation: Mandatory.

Legal Authority: The Public Works and Economic Development Act of 1965 (42 U.S.C. 3121 et seq).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection.

Sheleen Dumas,
Department PRA Clearance Officer, Office of the Chief Information Officer, Commerce Department.

[FR Doc. 2022-12471 Filed 6-8-22; 8:45 am]

BILLING CODE 3510-34-P